DEPARTMENT OF EDUCATION

Privacy Act of 1974; System of Records—Impact Evaluation of Mandatory-Random Student Drug Testing

AGENCY: Institute of Education Sciences, Department of Education.

ACTION: Notice of a new system of records.

SUMMARY: In accordance with the Privacy Act of 1974, as amended (Privacy Act), the Department of Education (Department) publishes this notice of a new system of records entitled “Impact Evaluation of Mandatory-Random Student Drug Testing” (18-13-16). This evaluation was commissioned by the National Center for Education Evaluation and Regional Assistance at the Department's Institute of Education Sciences (IES). It will be conducted under a contract that was awarded by IES in July 2005. IES has been collaborating with the Department's Office of Safe and Drug-Free Schools (OSDFS) to coordinate the study of mandatory-random drug testing interventions in schools.

The study will address the following questions:

(1) Do high school students who are subject to mandatory-random drug testing (e.g., athletes, participants in competitive extra-curricular activities, etc.) report less use of tobacco, alcohol, and illicit substances compared to comparable students in high schools without mandatory-random drug testing policies?

(2) Do students in high schools with mandatory-random drug testing policies, but who are not subject to such testing (e.g., non-athletes, students who do not participate in competitive extra-curricular activities, etc.), report less use of tobacco, alcohol, and illicit substances compared to comparable students in high schools without mandatory-random drug testing policies?

The system will contain information about two cohorts of approximately 200 high school students in each of (i) 26 high schools operating the mandatory-random drug testing program, and (ii) 26 high schools that will not operate the program but that will serve as control high schools for the purposes of this evaluation. The total number of high school students included in this system of records will be approximately 10,400 for each of school years 2006-07 and 2007-08. The 52 participating high schools will be from school districts that are recipients of the Mandatory-Random Drug Testing Program grants that were announced in September 2006 by OSDFS. The system of records will include information about the high school students participating in the evaluation, including the students' names; addresses; demographic information such as race/ethnicity, gender, age, educational background; and attitudes and beliefs concerning substance use, and substance use itself.

DATES: The Department seeks comment on the new system of records described in this notice, in accordance with the requirements of the Privacy Act. We must receive your comments on the proposed routine uses for the system of records referenced in this notice on or before April 30, 2007.

The Department filed a report describing the new system of records covered by this notice with the Chair of the Senate Committee on Homeland Security and Governmental Affairs, the Chair of the House Committee on Oversight and Government Reform, and the Administrator of the Office of Information and Regulatory Affairs, Office of Management and Budget (OMB) on March 27, 2007. This system of records will become effective at the later date of—(1) the expiration of the 40-day period for OMB review on May 7, 2007 or (2) April 30, 2007, unless the system of records needs to be changed as a result of public comment or OMB review.

ADDRESSES: Address all comments about the proposed routine uses to Dr. Ricky Takai, Director, Evaluation Division, National Center for Education Evaluation and Regional Assistance, Institute of Education Sciences, U.S. Department of Education, 555 New Jersey Avenue, NW., room 502D, Washington, DC 20208. Telephone: (202) 208-7083. If you prefer to send comments through the Internet, use the following address: comments@ed.gov.

You must include the term “Impact Evaluation of Mandatory-Random Student Drug Testing” in the subject line of the electronic message.

During and after the comment period, you may inspect all comments about this notice in room 502D, 555 New Jersey Avenue, NW., Washington, DC, between the hours of 8 a.m. and 4:30 p.m., Eastern time, Monday through Friday of each week except Federal holidays.

Assistance to Individuals With Disabilities in Reviewing the Rulemaking Record

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations (CFR).

The Privacy Act applies to information about individuals that contains individually identifiable information and that is retrieved by a unique identifier associated with each individual, such as a name or social security number. The information about each individual is called a “record,” and the system, whether manual or computer-based, is called a “system of records.” The Privacy Act requires each agency to publish notices of systems of records in the Federal Register and to prepare reports to the OMB and Congress whenever the agency publishes a new system of records. Each agency is also required to send copies of the report to the Chair of the Senate Committee on Homeland Security and Governmental Affairs and the Chair of the House Committee on Oversight and Government Reform. These reports are intended to permit an evaluation of the probable effect of the proposal on the privacy rights of individuals.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 27, 2007.
Grover Whitehurst,
Director, Institute of Education Sciences.

For the reasons discussed in the preamble, the Director of the Institute of Education Sciences, U.S. Department of Education, publishes a notice of a new system of records to read as follows:

18-13-16

SYSTEM NAME:

Impact Evaluation of Mandatory-Random Student Drug Testing.

SECURITY CLASSIFICATION:

None.

SYSTEM LOCATION:

(1) Evaluation Division, National Center for Education Evaluation and Regional Assistance, Institute of Education Sciences, U.S. Department of Education, 555 New Jersey Avenue, NW., room 502D, Washington, DC 20208.

(2) RMC Research Corporation, 111 SW Columbia Street, Suite 1200, Portland, OR 97201.

CATEGORIES OF INDIVIDUALS COVERED BY THE SYSTEM:

This system contains records on high school students attending a high school in school districts that receive grants for School-Based Student Drug-Testing Programs. The goal of this study is to determine if students in high schools with mandatory-random drug testing policies report less use of tobacco, alcohol, and illicit substances compared to comparable students in high schools without mandatory-random student drug testing policies.

CATEGORIES OF RECORDS IN THE SYSTEM:

The system will contain information about two cohorts of approximately 200 high school students each of (i) 26 high schools operating the mandatory-random drug testing program, and (ii) 26 high schools that will not operate the program but that will serve as control high schools for this evaluation. The total number of high school students included in this system of records will be approximately 10,400 for each of school years 2006-07 and 2007-08. The 52 participating high schools will be from school districts that are recipients of the grants for School-Based Student Drug-Testing Programs that were announced in September, 2006 by OSDFS. The system of records will include information about the high school students participating in the evaluation, including the students' names; addresses; demographic information such as race/ethnicity, gender, age, educational background; and attitudes and beliefs concerning substance use, and substance use itself.

AUTHORITY FOR MAINTENANCE OF THE SYSTEM:

The evaluation being conducted is authorized under sections 171(b) and 173 of the Education Sciences Reform Act of 2002 (ESRA) (20 U.S.C. 9561(b) and 9563). The grants for School-Based Student Drug-Testing Programs are authorized under section 4121 of the Elementary and Secondary Education Act of 1965, as amended (20 U.S.C. 7131).

PURPOSE(S):

The information in this system is used for the following purposes: To study the impact of mandatory-random drug testing policies in high schools and to determine if mandatory-random drug testing policies result in less reported use of tobacco, alcohol, and illicit substances among a group of students in participating high schools compared to a comparable group of students in high schools that do not operate a mandatory-random drug testing program.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. These disclosures may be made on a case-by-case basis or, if the Department has complied with the computer matching requirements of the Privacy Act, under a computer matching agreement. Any disclosure of individually identifiable information from a record in this system must also comply with the requirements of section 183 of the ESRA (20 U.S.C. 9573) providing for confidentiality standards that apply to all collections, reporting, and publication of data by IES.

Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM, and the contractor and subcontractor maintain data for this system on computers and in hard copy.

RETRIEVABILITY:

Records in this system are indexed by a number assigned to each individual that is cross referenced by the individual's name on a separate list.

SAFEGUARDS:

All physical access to the Department's site and to the sites of the Department's contractor and subcontractor, where this system of records is maintained, is controlled and monitored by security personnel. The computer system employed by the Department offers a high degree of resistance to tampering and circumvention. This security system limits data access to Department and contract staff on a “need to know” basis, and controls individual users' ability to access and alter records within the system. The contractor and subcontractor will establish similar sets of procedures at their sites to ensure confidentiality of data. Their systems are required to ensure that information identifying individuals is in files physically separated from other research data. The contractor and subcontractor will maintain security of the complete set of all master data files and documentation. Access to individually identifiable data will be strictly controlled. At each site all data will be kept in locked file cabinets during nonworking hours, and work on hardcopy data will take place in a single room, except for data entry. Physical security of electronic data will also be maintained. Security features that protect project data include: password-protected accounts that authorize users to use the contractor's and subcontractor's systems but to access only specific network directories and network software; user rights and directory and file attributes that limit those who can use particular directories and files and determine how they can use them; e-mail passwords that authorize the user to access mail services; and additional security features that the network administrators will establish for projects as needed. The contractor and subcontractor employees who “maintain” (collect, maintain, use, or disseminate) data in this system shall comply with the requirements of the confidentiality standards in section 183 of the ESRA (20 U.S.C. 9573).

RETENTION AND DISPOSAL:

Records are maintained and disposed of in accordance with the Department's Records Disposition Schedules (Section Ed/RDS, Part 3, Item 2b and Part 3, Item 5a).

SYSTEM MANAGER AND ADDRESS:

Director, Evaluation Division, National Center for Education Evaluation and Regional Assistance, Institute of Education Sciences, U.S. Department of Education, 555 New Jersey Avenue, NW., room 502D, Washington, DC 20208.

NOTIFICATION PROCEDURE:

If you wish to determine whether a record exists regarding you in the system of records, contact the systems manager. Your request must meet the requirements of regulations at 34 CFR 5b.5, including proof of identity.

RECORD ACCESS PROCEDURE:

If you wish to gain access to your record in the system of records, contact the system manager. Your request must meet the requirements of regulations at 34 CFR 5b.5, including proof of identity.

CONTESTING RECORD PROCEDURE:

If you wish to contest the content of a record regarding you in the system of records, contact the system manager. Your request must meet the requirements of the regulations at 34 CFR 5b.7, including proof of identity.

RECORD SOURCE CATEGORIES:

The system will contain information about two cohorts of approximately 200 high school students each of (i) 26 high schools operating the mandatory-random drug testing program and (ii) 26 high schools that will not operate the program but that will serve as control high schools for this evaluation. The total number of high school students included in this system of records will be approximately 10,400 in each of school years 2006-07 and 2007-08. The 52 participating high schools will be from school districts that are recipients of the grants for School-Based Student Drug-Testing Programs that were announced in 2006 by OSDFS.

The system of records will include information about the high school students participating in the evaluation including the students' names; addresses; demographic information such as race/ethnicity, gender, age, and educational background; and attitudes and beliefs concerning substance use, and substance use itself.

EXEMPTIONS CLAIMED FOR THE SYSTEM:

None.

[FR Doc. E7-5933 Filed 3-29-07; 8:45 am]

BILLING CODE 4000-01-P